DEPARTMENT OF COMMERCE

Foreign-Trade Zones Board

[Order No. 1417]

Expansion/Reorganization of FTZ 147, Reading, Pennsylvania, Area

Pursuant to its authority under the Foreign-Trade Zones Act of June 18, 1934, as amended (19 U.S.C. 81a-81u), the Foreign-Trade Zones Board adopts the following Order:

Whereas, the Foreign-Trade Zone Corporation of Southeastern Pennsylvania, grantee of Foreign-Trade Zone 147, submitted an application to the Board for authority to reorganize and expand FTZ 147 to modify existing Sites 4 and 5 and to include nine additional sites in south eastern and south central Pennsylvania, adjacent to the Harrisburg Customs port of entry (FTZ Docket 12-2005; filed 3/1/05);

Whereas, notice inviting public comment was given in the Federal Register (70 FR 11611, 3/9/05), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand/reorganize FTZ 147 is approved, subject to the Act and the Board's regulations, including Section 400.28, and subject to the 2,000-acre activation limit.

Signed at Washington, DC, this 3rd day of November 2005.

Joseph A. Spetrini,
Acting Assistant Secretary of Commerce for Import Administration, Alternate Chairman, Foreign-Trade Zones Board.
Attest:
Dennis Puccinelli,
Executive Secretary.

[FR Doc. 05-22925 Filed 11-17-05; 8:45 am]

BILLING CODE 3510-DS-S